DEPARTMENT OF HEALTH AND HUMAN SERVICES

Health Resources and Service Administration

Advisory Committee on Interdisciplinary, Community-Based Linkages; Notice of Meeting

In accordance with section 10(a)(2) of the Federal Advisory Committee Act (Public Law 92-463), notice is hereby given of the following meeting:

Name: Advisory Committee on Interdisciplinary, Community-Based Linkages (ACICBL).

Date and Time: December 10, 2014 (10:00 a.m.-4:30 p.m.).

Place: Webinar and Conference Call Format.

Status: The meeting will be open to the public.

Purpose: The members of the ACICBL will continue discussions to develop the legislatively mandated 14th Annual Report to the Secretary of Health and Human Services and Congress. The Committee members have chosen the working topic: Rethinking Complex Care: Preparing the Health Care Workforce to Foster Person-Centered Care. The members will discuss the initial 14th Annual Report draft. The report will include the following topics: Chronic Care Management, Chronic Disease Prevention, Social Determinants of Health, Health Literacy, Cultural Competency, Shared Decision Making, Family Engagement and Empowerment, Interprofessional Education, and Evaluations of Teaching Strategies for Person Centered Care.

AGENDA: The ACICBL agenda includes an opportunity for members to discuss the 14th Annual Report draft and provide comments and edits to further develop the report. The agenda will be available 2 days prior to the meeting on the Heath Resources and Services Administration's (HRSA) ACICBL Web site at http://www.hrsa.gov/advisorycommittees/bhpradvisory/acicbl/acicbl.html. Agenda items are subject to change as priorities dictate.

Public Comment: Members of the public will have the opportunity to provide comments. Requests to make oral comments or provide written comments to the ACICBL should be sent to Dr. Joan Weiss, Designated Federal Official (DFO), using the address and phone number below.

SUPPLEMENTARY INFORMATION: Individuals who plan to participate on the conference call or webinar should notify Dr. Weiss at least 3 days prior to the meeting, using the address and phone number below. Interested parties should refer to the meeting subject as the HRSA Advisory Committee on Interdisciplinary, Community-Based Linkages. The logistical challenges of scheduling this meeting hindered an earlier publication of this meeting notice.

The conference call-in number is 800-369-1867. The passcode is: 8803797. The webinar link is https://hrsa.connectsolutions.com/acicbl/

FOR FURTHER INFORMATION CONTACT: Anyone requesting information regarding the ACICBL should contact Dr. Joan Weiss in one of three ways: (1) Send a request to the following address: Dr. Joan Weiss, DFO, Bureau of Health Workforce, HRSA, Parklawn Building, Room 12C-05, 5600 Fishers Lane, Rockville, Maryland 20857; (2) call (301) 443-0430; or (3) send an email to jweiss@hrsa.gov.

Jackie Painter,
Acting Director, Division of Policy and Information Coordination.

[FR Doc. 2014-28344 Filed 12-1-14; 8:45 am]

BILLING CODE 4165-15-P